DEPARTMENT OF TRANSPORTATION

Federal Aviation Administration

14 CFR Part 39

[Docket No. 2001-NM-258-AD; Amendment 39-12510; AD 2001-17-28 R1]

RIN 2120-AA64

Airworthiness Directives; Boeing Model 767 Series Airplanes

AGENCY: Federal Aviation Administration, DOT.

ACTION: Final rule; request for comments.

SUMMARY: This amendment revises an existing airworthiness directive (AD), applicable to all Boeing Model 767 series airplanes, that currently requires a one-time inspection to detect abrasion damage and installation discrepancies of the wire bundles located below the P37 panel, corrective action if necessary, relocating the wire support standoff, and installing protective sleeving over the wire bundles. This amendment removes the requirements to relocate the wire support standoff and install the protective sleeving, and revises the applicability by removing certain airplanes. The actions specified in this AD are intended to detect and correct such abrasion damage and installation discrepancies, which could result in arcing to structure and consequent fire or loss of function of affected systems.

DATES: Effective December 11, 2001.

The incorporation by reference of certain publications listed in the regulations, is approved by the Director of the Federal Register as of December 11, 2001.

The incorporation by reference of certain other publications listed in the regulations was approved previously by the Director of the Federal Register as of September 13, 2001 (66 FR 45579, August 29, 2001).

Comments for inclusion in the Rules Docket must be received on or before January 25, 2002.

ADDRESSES: Submit comments in triplicate to the Federal Aviation Administration (FAA), Transport Airplane Directorate, ANM-114, Attention: Rules Docket No. 2001-NM-258-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2001-NM-258-AD” in the subject line and need not be submitted in triplicate. Comments sent via the Internet as attached electronic files must be formatted in Microsoft Word 97 for Windows or ASCII text.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Elias Natsiopoulos, Aerospace Engineer, Systems and Equipment Branch, ANM-130S, FAA, Seattle Aircraft Certification Office, 1601 Lind Avenue, SW., Renton, Washington 98055-4056; telephone (425) 227-1279; fax (425) 227-1181.

SUPPLEMENTARY INFORMATION: On August 20, 2001, the FAA issued AD 2001-17-28, amendment 39-12419 (66 FR 45579, August 29, 2001), applicable to all Boeing Model 767 series airplanes, to require a one-time inspection to detect abrasion damage and installation discrepancies of the wire bundles located below the P37 panel, corrective action if necessary, relocating the wire support standoff, and installing protective sleeving over the wire bundles. The actions required by that AD are intended to detect and correct such damage and other discrepancies, which could result in arcing to structure and consequent fire or loss of function of affected systems.

Explanation of Relevant Service Information

AD 2001-17-28 cited the original versions of Boeing Alert Service Bulletins 767-24A0134 and 767-24A0135 as the appropriate sources of service information for accomplishment of the requirements. Since that AD was issued, Boeing has issued Revision 1, dated October 18, 2001, of both alert service bulletins. Revision 1 clarifies certain accomplishment instructions and specifies optional sleeving material. Revision 1 also revises the effectivity to add “Group 2” airplanes, which comprise airplanes on which the sleeving installed in production may have been an incorrect type or incorrectly installed. Revision 1 includes different actions for Group 2 airplanes to address the discrepant sleeving installation.

Since Issuance of Previous Rule

Since the issuance of AD 2001-17-28, the FAA has become aware of certain requirements that were inadvertently included in that AD.

FAA Determination

The FAA has determined that the 90-day compliance time required by AD 2001-17-28 is sufficient for operators to accomplish the inspection and repair any damage found, but insufficient to also relocate the wire support standoff and install protective sleeving over the wire bundles. The FAA has revised the AD to remove the relocation and installation actions.

In addition, the FAA has determined that, because Group 2 airplanes are newly manufactured, the unsafe condition does not indicate the need for the immediate accomplishment of the actions specified for those airplanes in the alert service bulletins; i.e., delaying their accomplishment would not adversely affect safety. The FAA has therefore determined that, if the actions are necessary to be accomplished on Group 2 airplanes, a notice of proposed rulemaking would be proper because notice and the opportunity for public comment would be practicable.

The FAA is considering issuing a notice of proposed rulemaking that would add requirements to relocate the wire support standoff and install protective sleeving over the wire bundles, and revise the applicability to add Group 2 airplanes to accomplish additional actions in the event of discrepant sleeving installation.

Comment on the Immediately Adopted Rule

After AD 2001-17-28 was issued, the FAA received a comment regarding the routing of the bundle under the blanket. According to the AD, such routing “violates wire bundle installation and routing requirements.” The commenter suggests that, if the violation refers to Boeing's routing requirements, the unsafe condition would result not from a design error but rather a production quality problem. In that event, the commenter considers that other aircraft types might be affected, and questions whether the FAA has investigated this possibility.

The FAA has determined that the cause of the discrepant wiring installation is unknown; the routing of the wire bundle under an insulation blanket is isolated to the incident airplane. Its operator reports that all Model 767 series airplanes remaining in the fleet (approximately 100) have been inspected. The results of those inspections revealed other installation discrepancies, but no wire bundle found under an insulation blanket in another airplane. Boeing specifies that wire bundles be installed inboard of (over) the insulation blankets; i.e., insulation blankets are installed before wire bundles. The FAA has concluded that the wire bundle in the incident airplane had been covered by the blanket inadvertently during in-service maintenance.

Explanation of Requirements of Rule

Since an unsafe condition has been identified that is likely to exist or develop on other airplanes of this same type design, this amendment revises AD 2001-17-28 to continue to require a one-time detailed visual inspection to detect abrasion damage and installation discrepancies of the wire bundles located below the P37 panel, and corrective action if necessary. This amendment revises AD 2001-17-28 to remove the requirements to relocate the wire support standoff and install protective sleeving over the wire bundles. This amendment also revises the applicability to remove certain airplanes.

Interim Action

This is considered to be interim action. The FAA is considering future rulemaking to add requirements to relocate the wire support standoff and install protective sleeving over the wire bundles. The planned compliance time for these actions is sufficiently long so that notice and opportunity for prior public comment will be practicable. In addition, the FAA may revise the applicability to include Group 2 airplanes.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed. Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket 2001-NM-258-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12419 (66 FR 45579, August 29, 2001), and by adding a new airworthiness directive (AD), amendment 39-12510, to read as follows:

2001-17-28 R1 Boeing: Amendment 39-12510. Docket 2001-NM-258-AD. Revises AD 2001-17-28, Amendment 39-12419.

Applicability: Model 767 airplanes, certificated in any category, line numbers 1 through 815 inclusive.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To detect and correct abrasion damage and installation discrepancies of the wire bundles located below the P37 panel, which could result in arcing to structure and consequent fire or loss of function of affected systems, accomplish the following:

Inspection

(a) Within 90 days after September 13, 2001 (the effective date of AD 2001-17-28, amendment 39-12419): Perform a one-time detailed visual inspection of the wire bundles located below the P37 panel to detect abrasion damage and wire installation discrepancies (including missing standoffs; missing, chafed, or loose cable clamps; chafed grommets; and wire bundles located beneath an insulation blanket), in accordance with Boeing Alert Service Bulletin 767-24A0134, dated March 15, 2001, or Revision 1, dated October 18, 2001 (for Model 767-200 and -300 series airplanes); or 767-24A0135, dated March 15, 2001, or Revision 1, dated October 18, 2001 (for Model 767-400ER series airplanes). If any damage or other discrepancy is found, prior to further flight, perform corrective actions in accordance with the applicable alert service bulletin. After the effective date of this AD, only Revision 1 of the alert service bulletin may be used.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Alternative Methods of Compliance

(b) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 3: Information concerning the existence of approved alternative methods of compliance with this AD, if any, may be obtained from the Seattle ACO.

Special Flight Permits

(c) Special flight permits may be issued in accordance with sections 21.197 and 21.199 of the Federal Aviation Regulations (14 CFR 21.197 and 21.199) to operate the airplane to a location where the requirements of this AD can be accomplished.

Incorporation by Reference

(d) The actions must be done in accordance with Boeing Alert Service Bulletin 767-24A0134, dated March 15, 2001; Boeing Alert Service Bulletin 767-24A0134, Revision 1, dated October 18, 2001; Boeing Alert Service Bulletin 767-24A0135, dated March 15, 2001; or Boeing Alert Service Bulletin 767-24A0135, Revision 1, dated October 18, 2001; as applicable.

(1) The incorporation by reference of Boeing Alert Service Bulletin 767-24A0134, Revision 1, dated October 18, 2001; and Boeing Alert Service Bulletin 767-24A0135, Revision 1, dated October 18, 2001; is approved by the Director of the Federal Register in accordance with 5 U.S.C. 552(a) and 1 CFR part 51.

(2) The incorporation by reference of Boeing Alert Service Bulletin 767-24A0134, dated March 15, 2001; and Boeing Alert Service Bulletin 767-24A0135, dated March 15, 2001 was approved previously by the Director of the Federal Register as of September 13, 2001 (66 FR 45579, August 29, 2001).

(3) Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(e) This amendment becomes effective on December 11, 2001.

Issued in Renton, Washington, on November 15, 2001.
Kalene C. Yanamura,
Acting Manager, Transport Airplane Directorate, Aircraft Certification Service.

[FR Doc. 01-29183 Filed 11-23-01; 8:45 am]

BILLING CODE 4910-13-U